DEPARTMENT OF HEALTH AND HUMAN SERVICES

Centers for Disease Control and Prevention

[30Day-18-0943]

Agency Forms Undergoing Paperwork Reduction Act Review

In accordance with the Paperwork Reduction Act of 1995, the Centers for Disease Control and Prevention (CDC) has submitted the information collection request titled Data Collection for the Residential Care Community and Adult Day Services Center Components of the National Study of Long-Term Care Providers to the Office of Management and Budget (OMB) for review and approval. CDC previously published a “Proposed Data Collection Submitted for Public Comment and Recommendations” notice on December 19, 2017 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Data Collection for the Residential Care Community and Adult Day Services Center Components of the National Study of Long-Term Care Providers (OMB Control Number 0920-0943, Exp. Date 05/31/2019)—Revision—National Center for Health Statistics, Centers for Disease Control and Prevention (CDC).

Background and Brief Description

Section 306 of the Public Health Service (PHS) Act (42 U.S.C. 242k), as amended, authorizes that the Secretary of Health and Human Services (DHHS), acting through NCHS, “shall collect statistics on health resources. . . [and] utilization of health care, including extended care facilities, and other institutions.”

NCHS seeks approval to collect data for the residential care community (RCC) and adult day services center (ADSC) survey components of the 2018 National Study of Long-Term Care Providers (NSLTCP). A one year clearance is requested.

Details on the complete study design are as follows. The NSLTCP is designed to (1) broaden NCHS' ongoing coverage of paid, regulated long-term care (LTC) providers; (2) merge with existing administrative data on LTC providers and service users (i.e. Centers for Medicare and Medicaid Services (CMS) data on nursing homes and residents, home health agencies and patients, and hospices and patients); (3) update data more frequently on LTC providers and service users for which nationally representative administrative data do not exist; and (4) enable comparisons across LTC sectors and timely monitoring of supply, use, and characteristics of these sectors over time. Data will be collected from two types of LTC providers in the 50 states and the District of Columbia: 2,090 RCCs and 1,650 ADSCs. Data were collected in 2012, 2014, and 2016. The data to be collected in 2018 include the basic characteristics, services, staffing, and practices of RCCs and ADSCs, and demographics, selected health conditions and health care utilization, physical functioning, and cognitive functioning of RCC residents and ADSC participants. The 2018 NSLTCP will include the addition of a contact confirmation call, a call to screen and set an appointment for the services user data collection, and sampling and services user questionnaires. The provider-level data collection has been consolidated into one version of a questionnaire for each setting rather than two versions, and a data retrieval call has been eliminated.

Expected users of data from this collection effort include, but are not limited to CDC; other Department of Health and Human Services (DHHS) agencies, such as the Office of the Assistant Secretary for Planning and Evaluation, The Administration for Community Living, and the Agency for Healthcare Research and Quality; associations, such as LeadingAge, National Center for Assisted Living, American Seniors Housing Association, Argentum (formerly Assisted Living Federation of America), and National Adult Day Services Association; universities; foundations; and other private sector organizations such as the Alzheimer's Association and the AARP Public Policy Institute.

Expected burden from data collection for eligible cases is 80 minutes per respondent: 5 Minutes for a contact confirmation call; 15 minutes for a screener and appointment setting call; 30 minutes for a provider questionnaire; and 30 minutes for a sampling and services user questionnaire. We estimate an eligibility rate for ADSCs of 86% and for RCCs of 76%. One year clearance is requested to cover the collection of data. The burden for the collection is shown in the table below. There is no cost to respondents other than their time to participate.

Estimated Annualized Burden Hours
Type of respondents | Form name | No. of respondents | No. of responses per respondent | Avg. burden per response (in hours)
RCC/ADSC Director/Designated Staff Member | Contact Confirmation Call | 3,740 | 1 | 5/60
RCC/ADSC Director/Designated Staff Member | Screener and Appointment Setting Call | 3,740 | 1 | 15/60
RCC Director/Designated Staff Member | RCC Provider Questionnaire | 1,589 | 1 | 30/60
ADSC Director/Designated Staff Member | ADSC Provider Questionnaire | 1,419 | 1 | 30/60
RCC/ADSC Director/Designated Staff Member | RCC/ADSC Sampling and Services User Questionnaire | 3,008 | 1 | 30/60

Leroy A. Richardson,
Chief, Information Collection Review Office, Office of Scientific Integrity, Office of the Associate Director for Science, Office of the Director, Centers for Disease Control and Prevention.

[FR Doc. 2018-07016 Filed 4-5-18; 8:45 am]

BILLING CODE 4163-18-P